DEPARTMENT OF HEALTH AND HUMAN SERVICES

Health Resources and Services Administration

Advisory Committee on Infant Mortality; Notice of Meeting

In accordance with section 10(a)(2) of the Federal Advisory Committee Act (Pub. L. 92-463), notice is hereby given of the following meeting:

Name: Advisory Committee on Infant Mortality (ACIM).

Dates and Times: March 1, 2005, 9 a.m.-5 p.m. March 2, 2005, 8:30 a.m.-3 p.m.

Place: Sheraton National Hotel, 900 South Orme Street, Arlington, Virginia 22204, (703) 521-1900.

Status: The meeting is open to the public with attendance limited to space availability.

Purpose: The Committee provides advice and recommendations to the Secretary of Health and Human Services on the following: Department programs that are directed at reducing infant mortality and improving the health status of pregnant women and infants; factors affecting the continuum of care with respect to maternal and child health care, including outcomes following childbirth; strategies to coordinate the variety of Federal, State, local and private programs and efforts that are designed to deal with the health and social problems impacting on infant mortality; and the implementation of the Healthy Start program and Healthy People 2010 infant mortality objectives.

Agenda: Topics that will be discussed include the following: Improving Perinatal Data; Neonatal Intensive Care and Ethical Issues; and Provider Reimbursement Issues. Substantial time will be spent in small group and full Committee discussions aimed at formulating the ACIM issues agenda. Proposed agenda items are subject to change as priorities indicate.

Time will be provided for public comments limited to five minutes each; comments are to be submitted no later than February 15, 2005.

FOR FURTHER INFORMATION CONTACT: Anyone requiring information regarding the Committee should contact Peter C. van Dyck, M.D., M.P.H., Executive Secretary, ACIM, Health Resources and Services Administration (HRSA), Room 18-05, Parklawn Building, 5600 Fishers Lane, Rockville, MD 20857, Telephone: (301) 443-2170.

Individuals who are submitting public comments or who have questions regarding the meeting should contact Ann M. Koontz, C.N.M., Dr. P.H., HRSA, Maternal and Child Health Bureau, telephone: (301) 443-6327, e-mail: akoontz@hrsa.gov.

Dated: January 31, 2005.
Steven A. Pelovitz,
Associate Administrator for Administration and Financial Management.

[FR Doc. 05-2102 Filed 2-2-05; 8:45 am]

BILLING CODE 4165-15-P